DEPARTMENT OF HEALTH AND HUMAN SERVICES

National Institutes of Health

National Institute of Environmental Health Sciences; Amended Notice of Meeting

Notice is hereby given of a change in the meeting of the National Institute of Environmental Health Sciences Special Emphasis Panel, February 19, 2003, 11 a.m. to February 19, 2003, 1 p.m., which was published in the Federal Register on February 5, 2003, 68 FR 5904.

The telephone conference call meeting will be held on March 19, 2003 at 2 p.m., instead of February 19, 2003, as previously advertised. The meeting is closed to the public.

Dated: February 26, 2003.
LaVerne Y. Stringfield,
Director, Office of Federal Advisory Committee Policy.

[FR Doc. 03-5218 Filed 3-5-03; 8:45 am]

BILLING CODE 4140-01-M